DEPARTMENT OF COMMERCE

National Oceanic and Atmospheric Administration

RIN 0648-XQ53

Caribbean Fishery Management Council; Scoping Meetings

AGENCY: National Marine Fisheries Service (NMFS), National Oceanic and Atmospheric Administration (NOAA), Commerce.

ACTION: Notice of Scoping Meetings.

SUMMARY: The Caribbean Fishery Management Council will hold scoping meetings to obtain input from fishers, the general public, and the local agencies representatives on the Document for Amendment 2 to the Fishery Management Plan for the Queen Conch Fishery of Puerto Rico and the U.S. Virgin Islands and Amendment X to the Reef Fish Fishery Management Plan of Puerto Rico and the U.S. Virgin Islands (Including the Final Environmental Impact Statement, Regulatory Impact Review, and Initial Regulatory Flexibility Analysis).

DATES AND ADDRESSES: The scoping meetings will be held on the following dates and locations:

For Puerto Rico,

August 18, 2009, Mayaguez Resort and Casino, Rd. 104, Km. 0.3, Mayaguez, Puerto Rico

August 19, 2009, DoubleTree by Hilton San Juan, De Diego Avenue, San Juan, Puerto Rico

For the U.S. Virgin Islands,

August 18, 2009, Holiday Inn (Windward Passage Hotel) Charlotte Amalie, St. Thomas, U.S. Virgin Islands

August 19, 2009, The Buccaneer Hotel, Estate Shoys, Christiansted, St. Croix, U.S. Virgin Islands.

All meetings will be held from 7:00 p.m. to 10:00 p.m.

FOR FURTHER INFORMATION CONTACT: Caribbean Fishery Management Council, 268 Muñoz Rivera Avenue, Suite 1108, San Juan, Puerto Rico 00918-1920, telephone (787) 766-5926.

SUPPLEMENTARY INFORMATION: The Caribbean Fishery Management Council will hold Scoping meetings to receive public input on the following management alternatives:

4.0 MANAGEMENT ALTERNATIVES

The Management Alternatives Section contains actions for setting ACLs for 4 species and species groups. One species not discussed in the actions is Nassau grouper, which is undergoing overfishing and therefore, would require an ACL by 2010. No action is discussed for Nassau grouper because current regulations exist which prohibit the take of Nassau grouper in the U.S. Caribbean (both from the EEZ and state waters). Because of this prohibition on take, no further action is required to end or prevent overfishing. Similar to Nassau grouper, queen conch management alternatives are only discussed for the fishery in St. Croix. This is a result of current regulations in the U.S Caribbean which prohibit the take of queen conch in the EEZ off Puerto Rico and St Thomas/St John.

Other actions in the Management Alternatives Section include methods for modifying the reef fish FMU, setting recreational ACLs, methods for accounting for uncertainty, alternative methods for setting ACLs based on proxies for reducing fishing mortality, accountability measures, monitoring and enforcement, permits, and allowable fishing gear.

4.1 Action 1: Amending the Stock Complexes in the Reef Fish Fishery Management Unit

Alternative 1. No Action. Do not change the stock complexes in the Reef Fish FMU

Alternative 2. Modify the FMU by:

Sub alternative A. Separating the Parrotfish Unit into 2 complexes. Parrotfish Unit 1 would include princess, queen, redfin, redtail, stoplight, redband, and striped parrotfishes and Parrotfish Unit 2 would include blue, midnight, and rainbow parrotfishes.

Sub alternative B. Separate Grouper Unit 4 into Grouper Unit 4 (yellowfin, red, tiger, and black grouper) and Grouper Unit 5 (yellowedge and misty grouper). Add black grouper to Grouper Unit 4.

Sub alternative C. Add cardinal snapper (Pristipomoides macrophthalmus) to Snapper Unit 2 and move wenchman (Pristopomoides aquilonaris) into Snapper Unit 1.

Alternative 3. Examine reef fish FMU and reassign species not targeted, retained, sold, or used for personal consumption as ecosystem component species.

Complex | Current | Proposed
Snapper Unit 1 | Silk (chillo) Black (pargo prieto) Blackfin (alinegra) Vermilion (besugo) | Silk (chillo) Black (pargo prieto) Blackfin (alinegra) Vermilion (besugo) Wenchman (Pristopomoides aquilonaris) (limosnera)
Snapper Unit 2 Queen (cartucho) Wenchman (Pristopomoides aquilonaris) (limosnera) | Queen (cartucho) Cardinal (Pristopomoides macrophthalmus) (muniama de afuera)
Snapper Unit 3 | Gray (pargo gris) Lane (arrayao) Mutton (sama) Dog (pargo colorao) Schoolmaster (pargo amarillo) Mahogany (rayao de yerba) | Gray (pargo gris) Lane (arrayao) Mutton (sama) Dog (pargo colorao) Schoolmaster (pargo amarillo) Mahogany (rayao de yerba)
Snapper Unit 4 | Yellowtail Snapper (colirubia) | Yellowtail Snapper (colirubia)
Grouper Unit 3 | Red hind Coney Rock hind Graysby Creole-fish | Red hind Coney Rock hind Graysby
Grouper Unit 4 Yellowfin Red Tiger Yellowedge Misty | Yellowfin Red Tiger Black
Grouper Unit 5 |  | Yellowedge Misty
Parrotfish | Blue Midnight Princess Queen Rainbow Redfin Redtail Stoplight Redband Striped | Princess Queen Redfin Redtail Stoplight Redband Striped
Parrotfish Unit 2 |  | Blue Midnight Rainbow

Discussion

The original stock complexes were developed in the SFA and are in need of change due to fishermen's input, reexamination of the biological characteristics of species within the complexes, exploitation levels, and omissions from the SFA. See Appendix 3 for the Reef Fish FMU.

If the Council chooses to separate Grouper Unit 4 into Grouper Unit 4 and Grouper Unit 5, a memo on the status of Grouper Unit 5 will be required indicating an unknown status so an ACL would not be required until 2011.

4.2 Action 2: Annual Catch Limits for queen conch (Strombus gigas) off St. Croix

Alternative 1. Do not set an ACL for queen conch off St. Croix

Alternative 2. Set the ACL for queen conch off St. Croix equal to:

Sub alternative A. Zero for the EEZ and do not establish an ACL for state waters.

Sub alternative B. Establish ACL of 90,000 pounds, based on the average landings from 1994-2006. The ACL would include both state and federal water landings.

Sub alternative C. Establish ACL of 50,000 pounds which is the current allowable catch level established by the U.S.V.I. government for St. Croix. The ACL would include both state and federal water landings. Under this alternative, the season for queen conch would run from November 1 - June 30, or until such time the ACL is met; additionally, there would be a 200 conch per boat limit.

Sub alternative D. Establish an ACL of Zero in the EEZ. The ACL for state waters would be set at 50,000 pounds which is the current allowable catch level established by the U.S.V.I. government for St. Croix.

Discussion

4.3 Action 3: Annual Catch Limits for Parrotfish Unit 1 and Parrotfish Unit 2

Alternative 1. No Action.

Sub Alternative A. Do not set an ACL for Parrotfish Unit 1 or Parrotfish Unit 2.

Sub Alternative B. Do not establish an ACL for Parrotfish Unit 2, but include Parrotfish Unit 2 in the ACL for Parrotfish Unit 1.

Alternative 2. For Parrotfish Unit 2:

Sub alternative A. Set the ACL equal to zero in the EEZ and do not establish an ACL for state waters but rely on the data collection program (as described in Action 10) and revisit ACL for parrotfish 5 years after implementation of data collection program.

Sub alternative B. Set the ACL equal to zero in the EEZ and recommend to Puerto Rico and the U.S.V.I. that the ACL be set equal to zero in state waters.

Alternative 3. Set the ACL for Parrotfish Unit 1 off Puerto Rico equal to:

Sub alternative A. Zero for the EEZ and do not establish an ACL for state waters, but rely on the data collection program (as described in Action 10) and revisit ACL for parrotfish five years after implementation of data collection program.

Sub alternative B. Establish an ACL of 80,000 pounds based on the average landings during 1999-2006. (ACLG February 2009 recommendation)

Sub alternative C. Establish an ACL based on the average landings from 1994-2006, multiplied by an uncertainty scalar (see Action 7 for uncertainty scalar).

Sub alternative D. Create equal ACLs for the commercial and recreational sectors based on commercial landings data.

Alternative 4. Set the ACL for Parrotfish Unit 1 off St. Thomas/St. John equal to:

Sub alternative A. Zero for the EEZ and do not establish an ACL for state waters, but rely on the data collection program (described in Action 10) and revisit ACL for parrotfish five years after implementation of data collection program.

Sub alternative B. 50,000 pounds based on the average landings during 1999-2006 (ACLG February 2009 recommendation)

Sub alternative C. The average landings during 1994-2006 multiplied by an uncertainty scalar (see Action 7 for uncertainty scalar).

Alternative 5. Set the ACL for Parrotfish Unit1 off St. Croix equal to:

Sub alternative A. Zero for the EEZ and do not establish an ACL in state waters, but rely on the data collection program (described in Action 10) and revisit ACL for parrotfish five years after implementation of data collection program.

Sub alternative B. 250,000 pounds, based on the average landings during 1999-2006 = (ACLG February 2009 recommendation)

Sub alternative C. The average landings during 1994-2006 multiplied by an uncertainty scalar (see Action 7 for uncertainty scalar).

Sub alternative D. 82,000 pounds based on the average landings during 1976-1990 = (discussed at the ACLG and SSC February 2009 meeting).

Sub alternative E. 82,000 pounds based on the average landings during 1983-1990 (SEFSC recommended time frame for pre-gillnet fishery).

Sub alternative F: Set ACL for Parrotfish Unit 1 off St. Croix equal to 250,000 pounds for the EEZ and do not establish a state water ACL, but rely on the data collection program (as described in Action 10) and revisit ACL for parrotfish five years after implementation of data collection program.

Alternative 6. Set the ACL for Parrotfish Unit 1 in the U.S. Caribbean equal to:

Sub alternative A. Zero for the EEZ and do not establish an ACL for state waters, but rely on the data collection program (described in Action 10) and revisit ACL for parrotfish five years after implementation of data collection program.

Sub alternative B. 380,000 pounds based on the average landings during 1999-2006.

Sub alternative C. The average landings during 1994-2006 multiplied by an uncertainty scalar (see Action 7 for uncertainty scalar).

Discussion

Parrotfish landings for Puerto Rico may be underestimated if they are reported as first class, second class, or third class species. Daniel Matos may be able to provide input about how frequently parrotfish are reported in one of those categories.

4.4 Action 4: Annual Catch Limits for Grouper Unit 4

Alternative 1. No Action. Do not set an ACL for Grouper Unit 4

Alternative 2. Set the ACL for Grouper Unit 4 off Puerto Rico equal to:

Sub alternative A. Zero in the EEZ and do not establish an ACL for state waters , but rely on the data collection program (described in Action 10) and revisit ACL for Grouper Unit 4 five years after implementation of the data collection program.

Sub alternative B. 10,000 pounds, based on the average corrected landings for identified Grouper Unit 4 species during 1994-2006. The ACL would include both state and federal water landings.

Sub alternative C. 15,000 pounds, based on the average corrected landings for identified Grouper Unit 4 species during 1994-2006 plus the average proportional corrected landings estimate for Grouper Unit 4 species landed in the generic “Sea Basses” category during 1994-2006.

Sub alternative D. A sufficient level of catch for collecting data on the fishery. This catch level would be established by SEFSC, in cooperation with Puerto Rico, for purposes of scientific data collection.

Alternative 3. Set the ACL for Grouper off St. Thomas/St. John at:

Sub alternative A. Zero for the EEZ off St Thomas/St John and do not establish an ACL for state waters, but rely on the data collection program (described in Action 10) and revisit ACL for Grouper Unit 4 five years after implementation of the data collection program.

Sub alternative B. The average landings during 1994 - 2006 for all Grouper species = 61,000 pounds as part of a Grouper ACL

Sub alternative C. The average landings during 1994 - 2006 for all Grouper species multiplied by an uncertainty scalar (see Action 7 for uncertainty scalar).

Alternative 4. Set the ACL for Grouper off St. Croix at:

Sub alternative A. Zero for the EEZ off St. Croix and do not establish an ACL for state waters, but rely on the data collection program (described in Action 10) and revisit ACL for Grouper Unit 4 five years after implementation of data collection program.

Sub alternative B. The average landings during 1994 - 2006 for all Grouper species = 32,000 pounds as part of a Grouper ACL

Sub alternative C. The average landings during 1994 - 2006 for all Grouper species multiplied by an uncertainty scalar (see Action 7 for uncertainty scalar).

Alternative 5. Set the ACL for Grouper in the U.S. Caribbean equal to:

Sub alternative A. Zero for the EEZ and do not establish an ACL for state waters, but rely on the data collection program (described in Action 10) and revisit the ACL for grouper five years after implementation of the data collection program.

Sub alternative B. 203,000 pounds, based on the average landings during 1999-2006.

Sub alternative C. The average landings during 1994-2006 multiplied by an uncertainty scalar (see Action 7 for uncertainty scalar).

Discussion

Note Alternative 2 sub alternative C does not include proportional readjustments in “First class”, “Second class”, and “Third class” landings estimates. Alternatives 3-5 examine an ACL for all grouper species due to the lack of species specific information in the USVI. Alternative 5 uses the “grouper” category landings in the USVI and a summation of identified and redistributed grouper species in Puerto Rico that are in the reef fish FMU.

4.5 Action 5: Annual Catch Limits for Snapper Unit 1

Alternative 1. No Action. Do not set an ACL for Snapper Unit 1

Alternative 2. Set the ACL for Snapper Unit 1 off Puerto Rico equal to:

Sub alternative A. Zero for the EEZ and do not establish an ACL for state waters, but rely on the data collection program (described in Action 10) and revisit ACL for Snapper Unit 1 five years after implementation of the data collection program.

Sub alternative B. The average corrected landings for identified Snapper Unit 1 species during 1999-2006 = 300,000 pounds multiplied by an uncertainty scalar (see Action 7 for uncertainty scalar).

Sub alternative C. The average corrected landings for identified silk snapper during 1999-2006 = 200,000 pounds for silk snapper multiplied by an uncertainty scalar (see Action 7 for uncertainty scalar). Silk snapper would be the indicator species for Snapper Unit 1.

Sub alternative D. Level in pounds to be determined (SEFSC), based on the average landings for 1994-2006 for the current Snapper Unit 1 multiplied by an uncertainty scalar (see Action 7 for uncertainty scalar).

Sub alternative E. 316,000 pounds, based on the average landings from 1999-2006 identified for Snapper Unit 1 species, plus the average proportional corrected landings estimate for Snapper Unit 1 species landed in the generic ““Snapper” category during 1999-2006, multiplied by an uncertainty scalar (see Action 7 for uncertainty scalar).

Sub alternative G. 374,000 pounds, based on the average 1994-2006 landings for identified Snapper Unit 1 species, plus the average proportional corrected landings estimate for Snapper Unit 1 species landed in the generic “Snapper” category during 1994-2006, multiplied by an uncertainty scalar (see Action 7 for uncertainty scalar).

Sub alternative H. 500,000 pounds ACL in the EEZ and do not establish an ACL for state waters, but rely on the data collection program (described in Action 10) and revisit ACL for Snapper Unit 1 five years after implementation of the data collection program.

Sub alternative J. 374,000 pounds each for both the commercial and recreational sectors.

Alternative 3. Set the ACL for Snapper off St. Thomas/St. John at:

Sub alternative A. Zero for the EEZ off St. Thomas/St. John and do not establish an ACL for state waters, but rely on the data collection program (described in Action 10) and revisit ACL for Snapper Unit 1 five years after implementation of the data collection program.

Sub alternative B. The average landings during 1994 - 2006 for all Snapper species =160,000 pounds as part of a Snapper ACL.

Sub alternative C. The average landings during 1994 - 2006 for all Snapper species multiplied by an uncertainty scalar (see Action 7 for uncertainty scalar).

Alternative 4. Set the ACL for Snapper off St. Croix at:

Sub alternative A. Zero for the EEZ off St. Croix and do not establish an ACL for state waters, but rely on the data collection program (described in Action 10) and revisit ACL for Snapper Unit 1 five years after implementation of data collection program.

Sub alternative B. 112,000 pounds based on average landings during 1994 - 2006 for all Snapper species.

Sub alternative C. The average landings during 1994 - 2006 for all Snapper species multiplied by an uncertainty scalar (see Action 7 for uncertainty scalar).

Alternative 5. Set the ACL for Snapper in the U.S. Caribbean equal to:

Sub alternative A. Zero for the EEZ off the U.S. Caribbean and do not establish an ACL for state waters, but rely on the data collection program (described in Action 10) and revisit ACL for Snapper Unit 1 five years after implementation of the data collection program.

Sub alternative B. 1,529,000 pounds, based on the average landings during 1994 - 2006 for all Snapper species.

Sub alternative C. The average landings during 1994 - 2006 for all Snapper species multiplied by an uncertainty scalar (see Action 7 for uncertainty scalar).

Discussion

Note Alternative 2 sub alternative C does not include proportional readjustments in “First class”, “Second class”, and “Third class” landings estimates. Alternatives 3-5 examine an ACL for all snapper species due to the lack of species specific information in the USVI. Alternative 5 uses the “snapper” category landings in the USVI and a summation of identified and redistributed snapper species in Puerto Rico that are in the reef fish FMU.

Alternative 2 for Puerto Rico: Need to eliminate wenchman (P. macrophthalmus) from the alternatives in which it is included for SU1 — therefore need to correct the poundage also. This affects sub-alternatives D, E, F, and G of Alternative 2 from Action 5.

4.6 Action 6: Annual Catch Limits for the Recreational Sector

Alternative 1. No Action. Do not set ACLs for the recreational sector.

Alternative 2. Use Puerto Rico recreational average landings data from MRFSS during 2000-2007 to set recreational ACLs in the EEZ and state waters of Puerto Rico for Snapper Unit 1, Grouper Unit 4, and Parrotfishes. Use the proportion of Puerto Rican recreational landings relative to the total of recreational and commercial Puerto Rican landings to set an ACL proxy in the EEZ and state waters for the USVI Recreational Fishery. For the USVI, proportions would be assigned to fish family (e.g., groupers, snappers, parrotfishes), until sufficient landings data are available to specify ACLs by unit. ACLs would equal zero for queen conch in the EEZ off St. Thomas/St. John and Puerto Rico; the recreational ACL for queen conch in the EEZ off St. Croix will be determined by the Council's recommendation on Action 2. All island based recreational ACLs for Nassau grouper would equal zero.

Alternative 3. Use Puerto Rico recreational average landings data from MRFSS during 2000-2007 to set recreational ACLs in the EEZ and state waters for Snapper Unit 1, Grouper Unit 4, and Parrotfishes. Use the proportion of Puerto Rican recreational landings relative to the total of recreational and commercial Puerto Rican landings to set an ACL proxy in the EEZ.

Alternative 4. Do not establish a recreational ACL in the USVI EEZ and state waters, but use the Commercial ACL for each unit or family as a proxy for the ACL for all sectors in the fishery.

Alternative 5. Set the recreational ACL in the USVI equal to 10% of each islands commercial ACL.

Alternative 6. Establish a separate charter boat sector ACL based on MRFSS data for Puerto Rico.

Alternative 7. Establish recreational ACL equal to half of the commercial ACL in Puerto Rico

Sub alternative A. Allow recreational fishers to harvest all species managed by the Council in the EEZ and state waters.

Sub alternative B. Allow recreational fishers to harvest only fish species managed by the Council that are not listed as overfished or under going overfishing in the EEZ and state waters.

Discussion

Need to calculate proportions for setting ACLs on a unit by unit basis.

4.7 Action 7: Accounting for Uncertainty

Alternative 1. No Action. Set the ACL at the level specified in the previous actions.

Alternative 2. In setting ACLs based on average catch, use:

Sub alternative A. 75% of the specified level in the previous actions to adjust for uncertainty

Sub alternative B. 50% of the specified level in the previous actions to adjust for uncertainty

Sub alternative C. 25% of the specified level in the previous actions to adjust for uncertainty.

Discussion

A major aspect of the revised NS1 guidelines is the concept of incorporating management and scientific uncertainty in using ACLs and AMs. Management uncertainty occurs because of the lack of sufficient information about catch (e.g., late reporting, underreporting, and misreporting of landings or bycatch). Management uncertainty also exists because of the lack of management precision in many fisheries due to lack of inseason fisheries landings data, lack of inseason closure authority, or the lack of sufficient inseason management in some FMPs when inseason fisheries data are available. Scientific uncertainty includes uncertainty around the estimate of a stock's biomass and its Maximum fishing mortality threshold (MFMT); therefore, any estimate of OFL has uncertainty (74 FR 3181). For these reasons, the Council may choose to take a more precautionary approach to prevent overfishing by reducing the ACL to account for such uncertainty.

4.8 Action 8: Alternative Methods for Reducing Fishing Mortality and Establishing ACL Proxies

Alternative 1. No Action. Do not implement alternative methods for reducing fishing mortality by establishing proxies for ACLs.

Alternative 2. Work with fishermen to develop measures to reduce fishing effort (i.e., permits, data collection).

Alternative 3. Establish ACL by sector for St. Thomas/St. John

Sub-alternative A. Establish ACL by net sector

Sub-alternative B. Establish ACL by trap/pot sector

Sub-alternative C. Establish ACL by hook-and-line sector

Alternative 4. Establish ACL by sector for St. Croix

Sub-alternative A. Establish ACL by net sector

Sub-alternative B. Establish ACL by trap/pot sector

Sub-alternative C. Establish ACL by hook-and-line sector

Alternative 5. Establish ACL by sector for Puerto Rico

Sub-alternative A. Establish ACL by net sector

Sub-alternative B. Establish ACL by trap/pot sector

Sub-alternative C. Establish ACL by hook-and-line sector

Discussion

There are limited circumstances that may not fit the standard approaches to specification of referenced points and management measures set forth in these guidelines.“These include, among other things, conservation and management of ESA listed species, harvests from aquaculture operations, and stocks with unusual life history characteristics.” In these circumstances, Councils may propose alternative approaches for satisfying the NS1 requirements of the Magnuson-Stevens Act (prevent overfishing) than those set forth in these guidelines.” Councils must document their rationale for any alternative approaches to these limited circumstances in an FMP or an FMP amendment, which will be reviewed for consistency with the Magnuson-Stevens Act (50 CFR 600.310 (h)(3)).

4.9 Action 9: Permits

Alternative 1. No Action. Do not establish a permit system for fishing in the EEZ

Alternative 2. Require a federal permit for fishing in the EEZ.

Sub Alternative A. Require a federal permit for recreational fishing in the EEZ.

Sub Alternative B. Require a federal permit for commercial fishing in the EEZ.

Sub Alternative C. Require the use of trap tags for all (lobster and fish) trap fisheries in the EEZ.

Sub Alternative D. Require a federal permit for charter boats fishing in the EEZ.

Alternative 3. Require a federal permit to sell Council managed species.

Alternative 4. Require a federal permit to purchase Council managed species.

Discussion

The Council moved to establish an Ad Hoc Advisory Panel to consist of fishermen and local and federal managers and scientists to develop a permitting and potentially a limited access system; these recommendations will be incorporated into this Action.

4.10 Action 10: Monitoring and Enforcement of Annual Catch Limits

Alternative 1. No Action. Set the ACL at the level specified in the previous actions.

Alternative 2. Require any person landing Council managed species to submit an appropriate data collection form, as developed by the SEFSC or the Council's SSC, after every trip with enough detail such that CPUE per species can be calculated for each gear.

Alternative 3. Require any federal permit holder to submit an appropriate data collection form, as developed by the SEFSC or the Council's SSC, after every trip with enough detail such that CPUE per species can be calculated for each gear.

Alternative 4. Develop an updated catch report form in coordination with the SEFSC, local and territorial governments, fishermen, and the Council's SSC with enough detail such that CPUE per species can be calculated for each gear.

Discussion

In their FMPs, or associated public documents such as SAFE reports as appropriate, Councils must describe general data collection methods, as well as any specific data collection methods used for all stocks in the fishery, and ecosystem component (EC) species, including: (1) Sources of fishing mortality (both landed and discarded), including commercial and recreational catch and bycatch in other fisheries; (2) Description of the data collection and estimation methods used to quantify total catch mortality in each fishery, including information on the management tools used (i.e., logbooks, vessel monitoring systems, observer programs, landings reports, fish tickets, processor reports, dealer reports, recreational angler surveys, or other methods); the frequency with which data are collected and updated; and the scope of sampling coverage for each fishery; and (3) Description of the methods used to compile catch data from various catch data collection methods and how those data are used to determine the relationship between total catch at a given point in time and the ACL for stocks and stock complexes that are part of a fishery (50 CFR 600.310 (i)).

The SSC and ACLG continuously recommended implementing better data collection methodologies throughout their respective discussions. Currently, information of this type is limited or non-existent; therefore, better data collection methods are necessary.

4.11 Action 11: Accountability Measures

Alternative 1. No Action. Do not establish Accountability Measures.

Alternative 2. Implement accountability measures for exceeding an ACL based on:

Sub alternative A. A single year of landings/catch.

Sub alternative B. A 2-year average of landings/catch.

Sub alternative C. A 3-year average of landings/catch.

Alternative 3. Reduce the fishing season in the following year by a length determined to be appropriate to account for exceeding the ACL.

Alternative 4. For queen conch exceedences in St Croix, close the EEZ to queen conch harvest.

Alternative 5. Reduce the ACL in the subsequent fishing year by an amount equal to an overage in the previous year.

Discussion

The Council may choose to use different sub alternatives from alternative 2 for different species or species groups depending on the reliability and timeliness for the different fisheries. If this is the case, additional alternatives would be developed so the Council can indicate that desire. There may be some difficulty in implementing Alternative 6 in the year directly following the overage due to the timeliness of the availability of the data; therefore, the reduction may take place up to two years after the overage of the ACL.

4.12 Action 12: Allowable Gear for Reef Fish

Alternative 1. No Action. Do not alter allowable gear in the U.S. Caribbean

Alternative 2. Review the list of allowable gear under 50 CFR 600.725

Discussion

The Council voted to request the Secretary of Commerce to list spear as an allowable gear in the reef fish fishery. A request to remove powerheads as an allowable gear was made by the CFMC (need to send a letter) with the rationale including the definition (powerheads use explosives so look at definition in Section 600). This is a simple process of rule making. A letter had been sent to the RA requesting that spear be allowed for the commercial fisheries. Trawls should not be allowed in the US Caribbean. Need to revise all the allowable gears.

4.13 Action 13: Establish Framework Measures for ACLs and AMs in the Reef Fish FMP.

Alternative 1. No Action. Do not establish a framework for ACLs and AMs

Alternative 2. Establish a framework procedure for setting and adjusting ACLs and AMs

Discussion

Action 13 will require modification of the existing framework procedure so that ACLs and AMs may be quickly altered as necessary through a regulatory action.

SPECIAL ACCOMMODATIONS

These meetings are physically accessible to people with disabilities. For more information or request for sign language interpretation and other auxiliary aids, please contact Mr. Miguel A. Rolon, Executive Director, Caribbean Fishery Management Council, 268 Muñoz Rivera Avenue, Suite 1108, San Juan, Puerto Rico, 00918-1920, telephone (787) 766-5926, at least five days prior to the meeting date.

Dated: July 27, 2009.
Tracey L. Thompson,
Acting Director, Office of Sustainable Fisheries, National Marine Fisheries Service.

[FR Doc. E9-18162 Filed 7-29-09; 8:45 am]

BILLING CODE 3510-22-S